DEPARTMENT OF THE INTERIOR

Bureau of Land Management

[LLCAN03900 L17110000 AL0000]

Proposed Information Collection, OMB Control Number 1004-NEW

AGENCY: Bureau of Land Management, Interior.

ACTION: 60-day notice and request for comments.

SUMMARY: The Bureau of Land Management (BLM) will ask the Office of Management and Budget (OMB) to approve the information collection (IC) described below. In compliance with the Paperwork Reduction Act of 1995, we invite the general public and other Federal agencies to comment on this IC. We may not conduct or sponsor and a person is not required to respond to a collection of information unless it displays a valid OMB control number.

DATES: Please submit your comments on this IC by April 11, 2011.

ADDRESSES: You may submit your comments by mail, fax, or electronic mail. Mail: U.S. Department of the Interior, Bureau of Land Management, 1849 C St., NW., Washington, DC 20240.

Fax: to Jean Sonneman at 202-912-7102.

Electronic mail: Jean_Sonneman@blm.gov.

Regardless of the form of your comments, please indicate “Attention: 1004-NEW.”

FOR FURTHER INFORMATION CONTACT: Chris Heppe, Arcata Field Office, at (707) 825-2351 (Commercial or FTS). Persons who use a telecommunication device for the deaf (TDD) may call the Federal Information Relay Service (FIRS) on 1-800-877-8339, to contact Mr. Heppe. You may also contact Mr. Heppe to obtain a copy, at no cost, of the regulations that authorize this collection of information.

SUPPLEMENTARY INFORMATION:

I. Abstract

The Bureau of Land Management (BLM) is proposing to sponsor visitor use surveys for the Headwaters Forest Reserve (Reserve) and the King Range National Conservation Area (KRNCA). The Secretary of the Interior acquired the Reserve under the authority of the 1998 Department of the Interior and Related Agencies Appropriations Act, Public Law 105-83 (codified at 16 USC 471j), and established the KRNCA under the authority of Public Law 91-476 (codified at 16 USC 460y-460y-9). The Reserve and the KRNCA are managed by the BLM Arcata Field Office in Northern California and are part of BLM's National Landscape Conservation System.

The proposed visitor use surveys would contribute to the implementation of the Resource Management Plans (RMPs) for the Reserve and the KRNC that the BLM approved in 2004 and 2005, respectively. In order to achieve resource protection and recreation goals set forth in the RMPs, BLM must gather accurate data regarding visitor use characteristics. Baseline studies of visitor use characteristics were conducted in the Reserve and the KRNCA in 1999 and 2003, respectively. These past studies provided comprehensive information about visitors' demographics and visitors' views on facilities, conflicts, existing and proposed management actions, resource conditions, and desires for the area. Since those initial studies, several changes have occurred in each area, including the addition of new facilities, and implementation of new management actions, and increasing annual visitation. A new visitor use study is needed in each area to determine changes in visitor characteristics, including demographics, usage, user conflicts, and perspectives toward management programs and facilities. The IC methods will include conducting on-site interviews with visitors on a stratified random sampling basis and distributing mail-back questionnaires. The IC will take place during the summer season when visitation rates are highest. Data will be analyzed and a final report developed for both the Reserve and the KRNCA. This collection of information will enable the BLM to respond to problems, protect natural and cultural resources, and develop appropriate interpretive programs.

II. Data

OMB Control Number: 1004-NEW.

Title: Visitor Use Surveys.

Frequency: On occasion.

Description of Respondents: Visitors and recreationists.

Respondents' obligation: Voluntary.

Estimated Reporting and Recordkeeping “Hour” Burden: The estimated reporting burden for this collection is 1,700 responses and 467 hours. The following table details the individual components and estimated hour burdens of this collection.

Table 1—Estimated Number of Respondents, Responses and Time
Activity | Estimated number of respondents | Estimated number of responses per respondent | Completion time per response (minutes) | Total burden hours
Headwaters Visitor Interview | 600 | 1 | 7 | 70
Headwaters Mail-back survey | 400 | 1 | 30 | 200
KRNCA Visitor Interview | 400 | 1 | 7 | 47
KRNCA Visitor Interview | 300 | 1 | 30 | 150
Totals | 1,700 |  |  | 467

III. Request for Comments

OMB regulations at 5 CFR 1320, which implement provisions of the Paperwork Reduction Act (44 U.S.C. 3501-3521), require that interested members of the public and affected agencies be provided an opportunity to comment on information collection and recordkeeping activities (see 5 CFR 1320.8(d) and 1320.12(a)). The BLM will request that the OMB approve this information collection activity for a 3-year term.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

Before including your address, phone number, email address, or other personal identifying information in your comment, you should be aware that your entire comment—including your personal identifying information—may be made publicly available at any time. While you can ask us in your comment to withhold your personal identifying information from public review, we cannot guarantee that we will be able to do so.

Jean Sonneman,
Information Collection Clearance Officer, Bureau of Land Management.

[FR Doc. 2011-2650 Filed 2-7-11; 8:45 am]

BILLING CODE 4310-84-P